DEPARTMENT OF HOMELAND SECURITY

Federal Emergency Management Agency

[Docket ID FEMA-2021-0002; Internal Agency Docket No. FEMA-B-2164]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama: Shelby | City of Pelham (20-04-2379P) | The Honorable Gary W. Waters, Mayor, City of Pelham, P.O. Box 1419, Pelham, AL 35124 | City Hall, 3162 Pelham Parkway, Pelham, AL 35124 | https://msc.fema.gov/portal/advanceSearch | Oct. 11, 2021 | 010193
Arkansas: Benton | City of Bentonville, (21-06-0311P) | The Honorable Stephanie Orman, Mayor, City of Bentonville, 305 Southwest A Street, Bentonville, AR 72712 | City Hall, 3200 Southwest Municipal Drive, Bentonville, AR 72712 | https://msc.fema.gov/portal/advanceSearch | Dec. 20, 2021 | 050012
Colorado:
Denver | City and County of Denver, (21-08-0407P) | The Honorable Michael B. Hancock, Mayor, City and County of Denver, 1437 North Bannock Street, Room 350, Denver, CO 80202 | Department of Public Works, 201 West Colfax Avenue, Denver, CO 80202 | https://msc.fema.gov/portal/advanceSearch | Dec. 27, 2021 | 080046
Eagle | Unincorporated areas of Eagle County, (21-08-0109P) | Mr. Jeff Shroll, Eagle County Manager, P.O. Box 850, Eagle, CO 81631 | Eagle County Engineering Department, 500 Broadway Street, Eagle, CO 81631 | https://msc.fema.gov/portal/advanceSearch | Nov. 5, 2021 | 080051
El Paso | City of Colorado Springs, (21-08-0112P) | The Honorable John Suthers, Mayor, City of Colorado Springs, 30 South Nevada Avenue, Suite 601, Colorado Springs, CO 80903 | Pikes Peak Regional Development Center, 2880 International Circle, Colorado Springs, CO 80910 | https://msc.fema.gov/portal/advanceSearch | Dec. 20, 2021 | 080060
Delaware: Sussex | City of Rehoboth Beach, (21-03-0968P) | The Honorable Stan Mills, Mayor, City of Rehoboth Beach, 229 Rehoboth Avenue, Rehoboth Beach, DE 19971 | Building and Licensing Department, 229 Rehoboth Avenue, Rehoboth Beach, DE 19971 | https://msc.fema.gov/portal/advanceSearch | Dec. 13, 2021 | 105086
Florida:
Palm Beach | Unincorporated areas of Palm Beach County, (20-04-4796P) | Ms. Verdenia C. Baker, Palm Beach County Administrator, 301 North Olive Avenue, 11th Floor, West Palm Beach, FL 33401 | Palm Beach County Planning, Zoning and Building Department, 2300 North Jog Road, West Palm Beach, FL 33411 | https://msc.fema.gov/portal/advanceSearch | Dec. 20, 2021 | 120192
Pasco | City of Zephyrhills, (20-04-6053P) | The Honorable Gene Whitfield, Mayor, City of Zephyrhills, 5335 8th Street, Zephyrhills, FL 33542 | City Hall, 5335 8th Street, Zephyrhills, FL 33542 | https://msc.fema.gov/portal/advanceSearch | Dec. 16, 2021 | 120235
Sarasota | Unincorporated areas of Sarasota County, (21-04-3579P) | The Honorable Alan Maio, Chairman, Sarasota County Board of Commissioners, 1660 Ringling Boulevard, Sarasota, FL 34236 | Sarasota County Planning and Development Services Department, 1001 Sarasota Center Boulevard, Sarasota, FL 34240 | https://msc.fema.gov/portal/advanceSearch | Dec. 13, 2021 | 125144
Sumter | City of Wildwood, (20-04-3810P) | Mr. Jason F. McHugh, Manager, City of Wildwood, 100 North Main Street, Wildwood, FL 34785 | City Hall, 100 North Main Street, Wildwood, FL 34785 | https://msc.fema.gov/portal/advanceSearch | Dec. 10, 2021 | 120299
Sumter | City of Wildwood, (21-04-1158P) | Mr. Jason F. McHugh, Manager, City of Wildwood, 100 North Main Street, Wildwood, FL 34785 | City Hall, 100 North Main Street, Wildwood, FL 34785 | https://msc.fema.gov/portal/advanceSearch | Dec. 10, 2021 | 120299
Sumter | Unincorporated areas of Sumter County, (20-04-3810P) | The Honorable Garry Breeden, Chairman, Sumter County Board of Commissioners, 7375 Powell Road, Wildwood, FL 34785 | Sumter County Service Center, 7375 Powell Road, Wildwood, FL 34785 | https://msc.fema.gov/portal/advanceSearch | Dec. 10, 2021 | 120296
Sumter | Unincorporated areas of Sumter County, (21-04-1158P) | The Honorable Garry Breeden, Chairman, Sumter County Board of Commissioners, 7375 Powell Road, Wildwood, FL 34785 | Sumter County Service Center, 7375 Powell Road, Wildwood, FL 34785 | https://msc.fema.gov/portal/advanceSearch | Dec. 10, 2021 | 120296
Volusia | City of DeBary, (21-04-0102P) | The Honorable Karen Chasez, Mayor, City of DeBary, 403 River Drive, DeBary, FL 32713 | City Hall, 16 Columbia Road, DeBary, FL 32713 | https://msc.fema.gov/portal/advanceSearch | Nov. 24, 2021 | 120672
Oklahoma: Washington | City of Bartlesville, (21-06-1105P) | The Honorable Dale Copeland, Mayor, City of Bartlesville, 401 South Johnstone Avenue, Bartlesville, OK 74003 | City Hall, 401 South Johnstone Avenue, Bartlesville, OK 74003 | https://msc.fema.gov/portal/advanceSearch | Dec. 20, 2021 | 400220
Pennsylvania: Philadelphia | City of Philadelphia, (21-03-0270P) | The Honorable James Kenney, Mayor, City of Philadelphia, 1400 John F. Kennedy Boulevard, Room 215, Philadelphia, PA 19107 | Department of Licenses and Inspections, 1400 John F. Kennedy Boulevard, Room 215, Philadelphia, PA 19107 | https://msc.fema.gov/portal/advanceSearch | Dec. 23, 2021 | 420757
Texas:
Denton | City of Corinth, (21-06-0453P) | Mr. Bob Hart, Manager, City of Corinth, 3300 Corinth Parkway, Corinth, TX 76208 | Planning and Development Department, 3300 Corinth Parkway, Corinth, TX 76208 | https://msc.fema.gov/portal/advanceSearch | Dec. 20, 2021 | 481143
Denton | City of Denton, (21-06-0453P) | Ms. Sara Hensley, Interim City Manager, City of Denton, 215 East McKinney Street, Suite 100, Denton, TX 76201 | Engineering Department, 901-A Texas Street, Denton, TX 76509 | https://msc.fema.gov/portal/advanceSearch | Dec. 20, 2021 | 480194
Montgomery | City of Conroe, (21-06-0972P) | The Honorable Jody Czajkoski, Mayor, City of Conroe, P.O. Box 3066, Conroe, TX 77305 | City Hall, 700 Metcalf Street, Conroe, TX 77301 | https://msc.fema.gov/portal/advanceSearch | Nov. 26, 2021 | 480484
Montgomery | City of Shenandoah, (21-06-0972P) | The Honorable Ritch Wheeler, Mayor, City of Shenandoah, 29955 I-45 North, Shenandoah, TX 77381 | City Hall, 29955 I-45 North, Shenandoah, TX 77381 | https://msc.fema.gov/portal/advanceSearch | Nov. 26, 2021 | 481256
Montgomery | Unincorporated areas of Montgomery County, (21-06-0972P) | The Honorable Mark J. Keough, Montgomery County Judge, 501 North Thompson Street, Suite 401, Conroe, TX 77301 | Montgomery County Court House, 501 North Thompson Street, Suite 103, Conroe, TX 77301 | https://msc.fema.gov/portal/advanceSearch | Nov. 26, 2021 | 480483
Rockwall | City of Rockwall, (21-06-1106P) | The Honorable Kevin Fowler, Mayor, City of Rockwall, 385 South Goliad Street, Rockwall, TX 75087 | Engineering Department, 385 South Goliad Street, Rockwall, TX 75087 | https://msc.fema.gov/portal/advanceSearch | Dec. 20, 2021 | 480547
Virginia:
Fairfax | City of Alexandria, (21-03-0303P) | The Honorable Justin M. Wilson, Mayor, City of Alexandria, 301 King Street, Room 2300, Alexandria, VA 22314 | City Hall, 301 King Street, Room 4200, Alexandria, VA 22314 | https://msc.fema.gov/portal/advanceSearch | Dec. 13, 2021 | 515519
Fairfax | Unincorporated areas of Fairfax County, (21-03-0303P) | The Honorable Jeffrey C. McKay, Chairman At-Large, Fairfax County Board of Supervisors, 12000 Government Center Parkway, Suite 530, Fairfax, VA 22035 | Fairfax County Department of Public Works and Environmental Services, 12000 Government Center Parkway, Fairfax, VA 22035 | https://msc.fema.gov/portal/advanceSearch | Dec. 13, 2021 | 515525
Independence City | City of Lynchburg, (21-03-0004P) | Mr. Reid A. Wodicka, Interim Manager, City of Lynchburg, 900 Church Street, Lynchburg, VA 24504 | City Hall, 900 Church Street, Lynchburg, VA 24504 | https://msc.fema.gov/portal/advanceSearch | Dec. 13, 2021 | 510093

[FR Doc. 2021-19733 Filed 9-13-21; 8:45 am]

BILLING CODE 9110-12-P